POSTAL RATE COMMISSION

Briefing on Industry Mailing Practices

AGENCY: Postal Rate Commission.

ACTION: Notice of briefing.

SUMMARY: Representatives from Publishers Clearing House will present a briefing on Thursday, May 2, 2002, beginning at 10 a.m., in the Postal Rate Commission's hearing room. The briefing will address the company's mailing practices. The briefing is open to the public.

DATES: May 2, 2002.

ADDRESSES: Postal Rate Commission (hearing room), 1333 H Street NW., Washington, DC 20268-0001, suite 300.

FOR FURTHER INFORMATION CONTACT: Stephen L. Sharfman, General Counsel, Postal Rate Commission, 202-789-6820.

Steven W. Williams,
Secretary.

[FR Doc. 02-10032 Filed 4-23-02; 8:45 am]

BILLING CODE 7710-FW-M